FEDERAL COMMUNICATIONS COMMISSION

47 CFR Parts 1, 22, 24, 27, and 90

[WT Docket No. 06-150; CC Docket No. 94-102; WT Docket No. 01-309; WT Docket No. 03-264; WT Docket No. 06-169; PS Docket No. 06-229; WT Docket No. 96-86; FCC No. 07-171]

Service Rules for the 698-806 MHz Band and Revision of the Commission's Rules Regarding Enhanced 911 Emergency Calling Systems, Wireless Radio Services, Hearing Aid-Compatible Telephones, and Public Safety Spectrum Requirements

AGENCY: Federal Communications Commission.

ACTION: Final rule.

SUMMARY: This document summarizes an Order on Reconsideration adopted by the Commission in this proceeding. The Order on Reconsideration announces changes to the composition of the governing board of the Public Safety Broadband Licensee (the board) as set forth in the Commission's 700 MHz Second Report and Order (22 FCC Rcd 15289 (2007)) (Second Report and Order). The National Public Safety Telecommunications Council (NPSTC) is removed from the board. The Forestry Conservation Communications Association (FCCA), the American Association of State Highway and Transportation Officials (AASHTO), and the International Municipal Sign Association (IMSA) are added to the board. The board's at-large members, jointly selected on delegated authority by the Commission's Public Safety and Homeland Security Bureau and Wireless Telecommunications Bureau, are increased from two to four. These changes increase the total number of board members from eleven to fifteen.

DATES: Effective October 2, 2007.

FOR FURTHER INFORMATION CONTACT: Carol Simpson, Public Safety and Homeland Security Bureau, at (202) 418-2391, or Jerry.Cowden@fcc.gov.

SUPPLEMENTARY INFORMATION: Background. On July 31, 2007, the Commission adopted a Second Report and Order revising the rules governing the upper 700 MHz band. In the Second Report and Order, the Commission redesignated ten megahertz of public safety 700 MHz spectrum (763-768/793-798 MHz) for the purpose of establishing a nationwide, interoperable broadband public safety communications network. In this regard, the Commission established a single nationwide license for this spectrum—the Public Safety Broadband License. Further, the Commission stated that it would assign this license to a single entity—the Public Safety Broadband Licensee (PSBL).

The Second Report and Order established certain criteria for the Public Safety Broadband Licensee eligibility, including that no commercial interest may be held in the PSBL, no commercial interest may participate in the management of the PSBL, the PSBL must be a non-profit organization, and the PSBL must be broadly representative of the public safety community. Further, the Second Report and Order requires that the PSBL be governed by a voting board consisting of eleven members, one each from the nine organizations representative of public safety listed below, and two at-large members selected by the Public Safety and Homeland Security Bureau and the Wireless Telecommunications Bureau, jointly on delegated authority. The nine organizations that are to be represented on the board, with each organization represented by one voting board member, are: The Association of Public Safety Communications Officials (APCO); the National Emergency Number Association (NENA); the International Association of Chiefs of Police (IACP); the International Association of Fire Chiefs (IAFC); the National Sheriffs' Association; the International City/County Management Association (ICMA); the National Governor's Association (NGA); the National Public Safety Telecommunications Council (NPSTC); and the National Association of State Emergency Medical Services Officials (NASEMSO).

On September 14, 2007, representatives of FCCA, AASHTO, and IMSA filed a notice of ex parte presentation recommending that the Commission, on its own motion, add FCCA, AASHTO, and IMSA as voting members to the PSBL board of directors. For the reasons discussed below, the Commission makes certain changes to the composition of the PSBL board of directors on our own motion.

Discussion. As noted above, one of our main criteria for the PSBL is that it be as broadly representative of the public safety community as possible. While the original nine organizations the Commission named would provide a substantial degree of such representation, the Commission finds that making the following changes to the board of directors would further serve this particular criterion and the public interest. First, the Commission names FCCA, AASHTO, and IMSA as additional organizations to be represented on the board as voting members. FCCA was established in 1944 and coordinates frequencies within the Forestry—Conservation spectrum. In this capacity, FCCA provides services for forestry and conservation, police, fire, EMS and local government agencies. AASHTO represents highway and transportation departments in all 50 states, the District of Columbia, and Puerto Rico, including the air, highway, public transportation, rail, and water transportation modes. IMSA dates back to 1896 and offers programs in a variety of public safety disciplines including public safety telecommunications, traffic control, work zone safety, and fire detection and reporting systems. Based on the particular expertise each of these organizations represents, the Commission finds that inclusion of these three organizations would further help to broaden representation of the public safety community in the PSBL board of directors.

Second, because FCCA, AASHTO, and IMSA are members of NPSTC, the Commission will remove NPSTC as one of the named organizations that may be represented as a voting member of the PSBL. Finally, the Commission finds that increasing the number of at-large members from the current two to four would provide additional flexibility to maximize the effectiveness of the PSBL. Accordingly, four at-large members will be selected by the Public Safety and Homeland Security Bureau and the Wireless Telecommunications Bureau, jointly on delegated authority. This will bring the total number of board members to fifteen.

Ordering Clauses. Accordingly, it is ordered that pursuant to sections 1, 2, 4(i), 5(c), 7, 10, 201, 202, 208, 301, 302, 303, 307, 308, 309, 310, 314, 316, 319, 324, 332, 333, 337 and 403 of the Communications Act of 1934, as amended, 47 U.S.C. 151, 152, 154(i), 155(c), 157, 160, 201, 202, 208, 301, 302, 303, 307, 308, 309, 310, 314, 316, 319, 324, 332, 333, 337 and 403, this order on reconsideration in WT Docket No. 06-150, CC Docket No. 94-102, WT Docket No. 01-309, WT Docket No. 03-264, WT Docket No. 06-169, PS Docket No. 06-229, and WT Docket No. 96-86 is adopted.

It is further ordered that, that pursuant to 5 U.S.C. 553(d)(3) and 47 CFR 1.427(b), this order on reconsideration will become effective upon publication in the Federal Register.

It is further ordered that, pursuant to Section 5(c) of the Communications Act of 1934, as amended, 47 U.S.C. 5(c), the Wireless Telecommunications Bureau and Public Safety and Homeland Security Bureau are granted delegated authority to implement the policies set forth in this order on reconsideration.

Federal Communications Commission.
William F. Caton,
Deputy Secretary.

[FR Doc. E7-19445 Filed 10-1-07; 8:45 am]

BILLING CODE 6712-01-P